ENVIRONMENTAL PROTECTION AGENCY

[EPA-HQ-OECA-2013-0311; FRL—9908-73-OEI]

Information Collection Request Submitted to OMB for Review and Approval; Comment Request; Emission Guidelines for Sewage Sludge Incinerators (Renewal)

AGENCY: Environmental Protection Agency (EPA).

ACTION: Notice.

SUMMARY: The Environmental Protection Agency has submitted an information collection request (ICR), “Emission Guidelines for Sewage Sludge Incinerators (40 CFR part 60, Subpart MMMM) (Renewal)” (EPA ICR No. 2403.03, OMB Control No. 2060-0661), to the Office of Management and Budget (OMB) for review and approval in accordance with the Paperwork Reduction Act (44 U.S.C. 3501 et seq). This is a proposed extension of the ICR, which is currently-approved through May 31, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 2, 2014.

ADDRESSES: Submit your comments, referencing Docket ID Number EPA-HQ-OECA-2013-0311, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: This supporting statement addresses information collection activities imposed by the Sewage Sludge Incineration (SSI) Unit Emission Guidelines Subpart MMMM. The guidelines do not apply directly to SSI unit owners and operators. The guidelines can be thought of as model regulations that States use in developing State plans to implement the emission guidelines. If a State does not develop, adopt, and submit an approvable State plan, the Environmental Protection Agency (EPA) must develop a Federal plan to implement the emission guidelines. This ICR presents the burden to respondents (owners or operators of SSI units) and the Designated Administrator (State or Federal Government) that will be imposed by State plans developed to implement the emission guidelines. Respondents are owners or operators of existing SSI units, including fluidized bed or multiple hearth units.

Form Numbers: None.

Respondents/affected entities: Owners and operators of sewage sludge incinerators.

Respondent's obligation to respond: Mandatory (40 CFR part 60, subpart MMMM).

Estimated number of respondents: 110 (total).

Frequency of response: Initially, semiannually, and annually.

Total estimated burden: 29,116 hours (per year). “Burden” is defined at 5 CFR 1320.3(b).

Total estimated cost: $7,580,390 (per year), which includes $4,732,368 annualized capital and/or operation & maintenance costs.

Changes in the Estimates: There is an adjustment decrease in the total estimated respondent burden compared with the ICR currently approved by OMB. The decrease occurred because the standard has been in effect for more than three years and the requirements are different during initial compliance as compared to on-going compliance. The previous ICR reflected those burdens and costs associated with the initial activities for subject facilities. This includes purchasing monitoring equipment, conducting performance test(s) and establishing recordkeeping systems. This ICR, by in large, reflects the on-going burden and costs which include continuously monitoring of pollutants and the submission of annual reports. However, note there is an adjustment increase in the total respondent costs due to an increase in labor rates.

In addition, there is a slight increase in the Agency cost due to a correction in travel expense. This ICR corrects the number of hours required for observing each stack test from 30 hours to 48 hours.

Richard T. Westlund,
Acting Director, Collection Strategies Division.

[FR Doc. 2014-09946 Filed 4-30-14; 8:45 am]

BILLING CODE 6560-50-P